DEPARTMENT OF TRANSPORTATION

Federal Highway Administration

Notice of Final Federal Agency Action on Proposed Bridge Rehabilitation and Restoration in Massachusetts

AGENCY: Federal Highway Administration (FHWA), DOT.

ACTION: Notice of Limitations on Claims for Judicial Review of Action by FHWA.

SUMMARY: This notice announces action taken by the FHWA that is final within the meaning of 23 U.S.C. 139(l)(1). The action relates to the proposed Longfellow Bridge Rehabilitation and Restoration Project in Boston and Cambridge, Massachusetts. The action grants an approval for the project.

DATES: By this notice, the FHWA is advising the public of final agency actions subject to 23 U.S.C. Sec. 139(l)(1). A claim seeking judicial review of the Federal agency action on the highway project will be barred unless the claim is filed on or before March 25, 2013.

FOR FURTHER INFORMATION CONTACT: For FHWA: Ms. Damaris Santiago, Environmental Engineer, FHWA Massachusetts Division Office, 55 Broadway, 10th Floor, Cambridge, MA 02142, 617-494-2419, dsantiago@dot.gov. For Massachusetts Department of Transportation (MassDOT) Highway Division: Mr. Michael O'Dowd, Project Manager, MassDOT Highway Division, 10 Park Plaza, Room 4260, Boston, MA 02116, 9 a.m. to 5 p.m., 617-973-7475, Michael.O'Dowd@state.ma.us.

SUPPLEMENTARY INFORMATION: Notice is hereby given that the FHWA has taken final agency action subject to 23 U.S.C. Sec. 139(l)(1) by issuing approval for the following bridge/highway improvement project in the Commonwealth of Massachusetts. The proposed project involves the rehabilitation and restoration of the Longfellow Bridge over the Charles River. It also includes the replacement of the adjacent pedestrian bridge over Storrow Drive. The project proposes to address the Longfellow Bridge's structural deficiencies and upgrade its structural capacity. In addition, the project will restore those elements that give the bridge its historic character in accordance with the Secretary of Interior's Standards for the Treatment of Historic Properties, and will bring the facilities into compliance with modern standards, in particular the Americans with Disabilities Act. It is one of the largest projects to be undertaken by MassDOT under the Commonwealth's $3 billion Accelerated Bridge Program. The action by the Federal agency, and the law under which the action was taken, are described in the Environmental Assessment (EA), for which a Finding of No Significant Impact (FONSI) was issued on August 24, 2012 and other documents in the FHWA project records. The EA, FONSI and other project records are available by contacting FHWA or MassDOT at the addresses above. The FHWA EA and FONSI can be viewed and downloaded from the project Web site at http://www.massdot.state.ma.us/charlesriverbridges/LongfellowBridge.aspx or viewed at public libraries in the project area.

This notice applies to all Federal agency decisions as of the issuance date of this notice and all laws under which such actions were taken, including but not limited to:

1. National Environmental Policy Act of 1969.

2. Section 4(f) of the Department of Transportation Act of 1966.

Authority: 23 U.S.C. Sec. 139(l)(1).

Issued on: September 12, 2012.
Pamela S. Stephenson,
Division Administrator, Cambridge, MA.

[FR Doc. 2012-23331 Filed 9-24-12; 8:45 am]

BILLING CODE 4910-RY-M